DEPARTMENT OF ENERGY

Federal Energy Regulatory Commission

[Docket No. CP13-4-000]

Gulf South Pipeline Company, L.P.; Notice of Request Under Blanket Authorization

Take notice that on October 11, 2012, Gulf South Pipeline Company, L.P. (Gulf South), 9 Greenway Plaza, Suite 2800, Houston, Texas 77046, pursuant to the blanket certificate issued to Gulf South's predecessor in Docket No. CP82-430-000,¹ filed an application in accordance to sections 157.205(b), 157.208(c), and 157(213) of the Commission's Regulations under the Natural Gas Act (NGA) as amended, to construct, own, operate, and maintain a horizontal injection and withdrawal well at Gulf South's Bistineau Storage Facility located in Bienville Parish, Louisiana, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

¹ United Gas Pipe Line, Co., 20 FERC ¶ 62,416 (1982).

The Bistineau Storage Facility is a converted gas producing reservoir and many of the original producing wells were converted to storage service by Gulf South in the late 1960's. Some of the existing well bores are over 50 years old and have begun to deteriorate either mechanically or operationally. Gulf South proposed to construct a new horizontal well to replace one or more of the existing vertical wells, which will be Gulf South D-21H drilled near the end of the D-lateral in Bienville Parish, Louisiana. Gulf South also proposes to construct approximately 0.06 miles of associated 8-inch lateral and appurtenant facilities. The proposed facilities will be used as an injection and withdrawal well. The project will not alter the Bistineau Storage Facility's total inventory, working gas/cushion gas ratio, reservoir pressure, reservoir or buffer boundaries, or certificated capacities, including injection and withdrawal capacity. The estimated cost of the proposed project is $3,500,000.

Any questions concerning this application may be directed to J. Kyle Stephens, Gulf South Pipeline Company, L.P., 9 Greenway Plaza, Suite 2800, Houston, Texas 77046, (713) 479-8033, or email at kyle.stephens@bwpmlp.com.

This filing is available for review at the Commission or may be viewed on the Commission's web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: October 23, 2012.
Kimberly D. Bose,
Secretary.

[FR Doc. 2012-26592 Filed 10-29-12; 8:45 am]

BILLING CODE 6717-01-P